Title 3—

The President

Proclamation 7784 of May 7, 2004

Peace Officers Memorial Day and Police Week, 2004

By the President of the United States of America

A Proclamation

Law enforcement officers are among America's greatest heroes. Every day, these men and women protect our families, homes, businesses, and communities.

Our dedicated peace officers put themselves at great risk while working tirelessly on the front lines in the fight against crime, violence, and terrorism. According to the National Law Enforcement Officers Memorial Fund, last year, 145 law enforcement officers made the ultimate sacrifice and gave their lives in the line of duty, while thousands of others were injured protecting our citizens from harm. On Peace Officers Memorial Day and throughout Police Week, we honor the memory of the fallen and recognize those who devote their lives to enforcing our laws, bringing criminals to justice, and making America safer and better.

Over the past year, many in our law enforcement community have been activated as Reservists or members of the National Guard. We are grateful to these officers and all our military personnel for answering the call to service, for their commitment to duty, and for the sacrifices they are making in defense of freedom.

By a joint resolution approved October 1, 1962, as amended, (76 Stat. 676), the Congress has authorized and requested the President to designate May 15 of each year as “Peace Officers Memorial Day” and the week in which it falls as “Police Week.”

NOW, THEREFORE, I, GEORGE W. BUSH, President of the United States of America, do hereby proclaim May 15, 2004, as Peace Officers Memorial Day and May 9 through May 15, 2004, as Police Week. I call on all Americans to observe these events with appropriate ceremonies and activities.

IN WITNESS WHEREOF, I have hereunto set my hand this seventh day of May, in the year of our Lord two thousand four, and of the Independence of the United States of America the two hundred and twenty-eighth.

B

[FR Doc. 04-11030

Filed 5-12-04; 8:45 am]

Billing code 3195-01-P